SMALL BUSINESS ADMINISTRATION

[Disaster Declaration #15927 and #15928; Nebraska Disaster Number NE-00074]

Presidential Declaration Amendment of a Major Disaster for Public Assistance Only for the State of Nebraska

AGENCY: U.S. Small Business Administration.

ACTION: Amendment 2.

SUMMARY: This is an amendment of the Presidential declaration of a major disaster for Public Assistance Only for the State of Nebraska (FEMA—4420—DR), dated 04/05/2019.

Incident: Severe Winter Storm, Straight-line Winds, and Flooding.

Incident Period: 03/09/2019 through 04/01/2019.

DATES: Issued on 04/05/2019.

Physical Loan Application Deadline Date: 06/04/2019.

Economic Injury (EIDL) Loan Application Deadline Date: 01/06/2020.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW, Suite 6050, Washington, DC 20416, (202) 205-6734.

SUPPLEMENTARY INFORMATION: The notice of the President's major disaster declaration for Private Non-Profit organizations in the State of Nebraska, dated 04/05/2019, is hereby amended to include the following areas as adversely affected by the disaster.

Primary Counties: Banner, Brown, Cheyenne, Dawes, Deuel, Franklin, Garden, Harlan, Keya Paha, Kimball, Lincoln, Merrick, Phelps, Rock, Saunders, Sheridan, Sioux, Stanton, Thurston, Webster.

All other information in the original declaration remains unchanged.

(Catalog of Federal Domestic Assistance Number 59008)

James Rivera,
Associate Administrator for Disaster Assistance.

[FR Doc. 2019-08090 Filed 4-22-19; 8:45 am]

BILLING CODE 8025-01-P